DEPARTMENT OF ENERGY

Office of Energy Efficiency and Renewable Energy

10 CFR Part 431

[Docket No. EE-RM/TP-99-480]

RIN 1904-AA95

Energy Efficiency Program for Certain Commercial and Industrial Equipment: Test Procedures and Efficiency Standards for Commercial Water Heaters, Hot Water Supply Boilers and Unfired Hot Water Storage Tanks

Correction

In rule document 04-17732 beginning on page 61974 in the issue of Thursday, October 21, 2004 make the following correction:

§431.110 [Corrected]

On page 61985, in § 431.110, after the table, in footnote b, in the second line, “[Insert date one year afer date the rule is published]” should read “October 21, 2005.”

[FR Doc. C4-17732 Filed 11-1-04; 8:45 am]

BILLING CODE 1505-01-D

DEPARTMENT OF HOMELAND SECURITY

Coast Guard

33 CFR Part 117

[CGD08-04-026]

RIN 1625-AA09

Drawbridge Operation Regulation; Inner Harbor Navigation Canal, LA

Correction

Rule document 04-17053 was inadvertently published in the Notices section in the issue of Tuesday, July 27, 2004, appearing on pages 44672-44673. It should have appeared in the Rules and Regulations section.

[FR Doc. C4-17053 Filed 11-1-04; 8:45 am]

BILLING CODE 1505-01-D

DEPARTMENT OF JUSTICE

Antitrust Division

Notice Pursuant to the National Cooperative Research and Production Act of 1993-Recreational Park Trailer Industry Association, Inc.

Correction

In notice document 04-23783 appearing on page 62294 in the issue of Monday, October 25, 2004, in the second column, the subject heading is corrected to read as set forth above.

[FR Doc. C4-23783 Filed 11-1-04; 8:45 am]

BILLING CODE 1505-01-D